DEPARTMENT OF THE INTERIOR

Fish and Wildlife Service

Notice of Availability of the Final Environmental Impact Statement and Associated Comprehensive Conservation Plan for the Little Pend Oreille National Wildlife Refuge

AGENCY: Fish and Wildlife Service, Interior.

ACTION: Notice of Availability of the Final Environmental Impact Statement and associated Comprehensive Conservation Plan for the Little Pend Oreille National Wildlife Refuge.

SUMMARY: Pursuant to Section 102(2) of the National Environmental Policy Act of 1969, the U.S. Fish and Wildlife Service (Service) announces that the final Environmental Impact Statement and associated Comprehensive Conservation Plan (Final CCP/EIS) for Little Pend Oreille National Wildlife Refuge, Stevens County, Washington is available for public review. Five alternatives for management of the Little Pend Oreille National Wildlife Refuge (Little Pend Oreille NWR, Refuge), including a no-action alternative, were considered in the planning process.

DATES: Written comments must be received at the address below by May 25, 2000. The Service will take no action on this proposal for the thirty-day period of availability, in accordance with the Council of Environmental Quality Regulations, 40 CFR 1506.10(b)(2). After a minimum of 30 days following the filing of the Final EIS, a Record of Decision to implement the proposed action will be signed.

ADDRESSES: Comments should be addressed to: Refuge Manager, Little Pend Oreille National Wildlife Refuge, 1310 Bear Creek Road, Colville, Washington 99114, phone (509) 684-8384. In addition, the Final CCP/EIS is available on the internet via the Fish and Wildlife Service Region 1 Planning Home Page at http://www.r1.fws.gov/planning/plnhome.html. Public reading copies of the Final CCP/EIS will be available at the Refuge Headquarters and at the following libraries: Chewelah Public Library, Colville Public Library, Deer Park Public Library, Kettle Falls Public Library, Newport Public Library, and Spokane Public Library.

FOR FURTHER INFORMATION CONTACT: Lisa Langelier, Refuge Manager, Little Pend Oreille National Wildlife Refuge, at the above address. Printed copies have been sent to agencies, organizations, officials, and selected individuals who participated in the scoping process. A planning update summarizing the CCP/EIS has also been mailed to all individuals and organizations on the CCP mailing list. Individuals wishing Compact Discs of this CCP/EIS for review should immediately contact the above individual.

SUPPLEMENTARY INFORMATION: The U.S. Fish and Wildlife Service began the process of developing a management plan for the 40,198 acre Little Pend Oreille NWR in 1995. The National Wildlife Refuge System Improvement Act of 1997 requires that each national wildlife refuge be managed under a comprehensive conservation plan. The Service has prepared a final EIS, the proposed action being to develop and implement a Comprehensive Conservation Plan for the Refuge that best achieves the Refuge's purpose, vision and goals; contributes to the Refuge System mission; addresses the significant issues and relevant mandates; and is consistent with principles of sound fish and wildlife management.

Alternative E, identified as the Agency Preferred Alternative (modified from draft), places management emphasis on restoration of habitat components along with a mix of existing uses and priority recreation activities.

Public comment has been requested, considered, and incorporated throughout the planning process in numerous ways. Public outreach included open houses, public meetings, plan work group meetings, a camping evaluation, planning update mailings, and Federal Register notices. Five previous notices were published in the Federal Register concerning this CCP/EIS (61 FR 65591, Dec. 13, 1996; 63 FR 39884, July 24, 1998; 64 FR 24168, May 5, 1999; 64 FR 36712, July 7, 1999; 64 FR 46404, Aug. 25, 1999).

During the Draft CCP/EIS comment period that occurred from May 5 to August 31, 1999, the Service received a total of 300 communications (letters, faxes, postcards, email, visits, or telephone calls) representing 327 persons. The Service also received three petitions signed by a total of 318 people. All substantive issues raised in the comments to the Draft CCP/EIS have been addressed through revisions incorporated into the Final CCP/EIS text or responses contained in Appendix J of the Final CCP/EIS.

After the review period ends for the Final CCP/EIS, comments will be analyzed and considered by the Service in the Record of Decision. All comments received from individuals on Environmental Impact Statements become part of the official public record. Requests for such comments will be handled in accordance with the Freedom of Information Act, the Council on Environmental Quality's NEPA regulations [40 CFR 1506.6(f)], and other Service and Departmental policy and procedures. When requested, the Service generally will provide comment letters with the names and addresses of the individuals who wrote the comments. However, the telephone number of the commenting individual will not be provided in response to such requests to the extent permissible by law. Additionally, public comment letters are not required to contain the commentator's name, address, or other identifying information. Such comments may be submitted anonymously to the Service.

Dated: April 18, 2000.
Richard A. Coleman,
Acting Regional Director, Acting Region 1, Portland, Oregon.

[FR Doc. 00-10240 Filed 4-24-00; 8:45 am]

BILLING CODE 4310-55-P